DEPARTMENT OF THE INTERIOR

Fish and Wildlife Service

[FWS-R1-R-2009-N0093]; [1265-0000-10137-S3]

Oregon Islands, Three Arch Rocks, and Cape Meares National Wildlife Refuges, Lincoln County, OR

AGENCY: Fish and Wildlife Service, Interior.

ACTION: Notice of availability: draft comprehensive conservation plan, draft wilderness stewardship plan, and environmental assessment; request for comments.

SUMMARY: We, the U.S. Fish and Wildlife Service (Service), announce the availability of our draft comprehensive conservation plan and environmental assessment (Draft CCP/EA) for the Cape Meares, Oregon Islands, and Three Arch Rocks National Wildlife Refuges (Refuges), and a draft wilderness stewardship plan (Draft WSP) for the Oregon Islands and Three Arch Rocks Refuges (collectively Draft CCP/WSP/EA). The Draft CCP/WSP/EA is available for public review and comment. It describes our proposal for managing the Refuges for the next 15 years. The Oregon Coast National Wildlife Refuge Complex office, located in Newport, Oregon, manages the Refuges, which are scattered along the Oregon coast in Clatsop, Tillamook, Lincoln, Lane, Coos, and Curry Counties.

DATES: To ensure consideration, we need to receive your written comments by July 15, 2009. See ADDRESSES for delivery options.

ADDRESSES: Address comments on the Draft CCP/WSP/EA to: Roy Lowe, Project Leader, Oregon Coast National Wildlife Refuge Complex, 2127 SE Marine Science Drive, Newport, OR 97365-5258; fax (541) 867-4551; or e-mail FW1PlanningComments@fws.gov. Please use “Oregon Islands CCP” in the subject. Additional information concerning the Refuges can be found on the Internet at http://www.fws.gov/oregoncoast/. For more information on reviewing documents, see “Public Availability of Documents” and “Public Comments” under SUPPLEMENTARY INFORMATION.

FOR FURTHER INFORMATION CONTACT: Roy Lowe, Project Leader, (541) 867-4550.

SUPPLEMENTARY INFORMATION:

Background

The CCP Process

The Draft CCP/WSP/EA was prepared pursuant to the National Wildlife Refuge System Administration Act of 1966 (16 U.S.C. 668dd-668ee) (Administration Act), as amended by the National Wildlife Refuge System Improvement Act of 1997; the National Environmental Policy Act of 1969, (42 U.S.C. 4321 et seq.) (NEPA); and the Service's Wilderness Stewardship Policy (610 FW 3). The Administration Act requires us to develop a CCP for each national wildlife refuge. The purpose of developing a CCP is to provide refuge managers a 15-year plan for achieving refuge purposes and contributing toward the mission of the National Wildlife Refuge System, consistent with sound principles of fish and wildlife management, conservation, legal mandates, and Service policies. In addition to outlining broad management direction for conserving wildlife and habitats, CCPs identify wildlife-dependent recreational opportunities available to the public, including hunting, fishing, wildlife observation and photography, and environmental education and interpretation. We will review and update the CCP at least every 15 years in accordance with the Administration Act.

Public Involvement

We began the public scoping phase of the planning process for the Draft CCP/WSP/EA by publishing a Notice of Intent in the Federal Register on October 26, 2006 (71 FR 62605), announcing our intention to complete a CCP/WSP/EA for the Refuges and inviting public comments. A list of public involvement efforts we have completed to date follow.

• In October 2006, we distributed Planning Update 1 to our project mailing list and public outlets located near one or more Refuges. In it, we announced the initiation of the planning process, invited the public to a series of public open house meetings, provided background information on the Refuges, and requested public comments on Refuge management issues.

• Between November 1 and 15, 2006, we held five public open house meetings in communities along the Oregon coast, to meet the public and obtain comments on refuge management issues. The public meetings were announced through local media via press releases, on the Refuge Complex Web site, and in Planning Update 1.

• In March 2007, we distributed Planning Update 2, which included a summary of the public open house meetings and the public comments we obtained at the meetings and through other means, a planning schedule, and draft vision statements for the Refuges.

Overview of the Refuges

Cape Meares Refuge is located on Oregon's Pacific Coast between Tillamook Bay and Netarts Bay. It is comprised of two separate units consisting of vertical coastal cliffs, rock outcroppings, and rolling headlands with old-growth forest dominated by Sitka spruce and western hemlock. This small Refuge protects one of the last stands of old-growth coastal forest in Oregon. The vertical sea cliffs around the headland support nesting seabird populations including tufted puffins, common murres, pigeon guillemots, pelagic cormorants, and others. Peregrine falcons nest on the cliffs, and bald eagles forage on the headland.

The Oregon Islands Refuge includes 1,854 rocks, reefs and islands, and two headland units, and spans 320 miles of the Oregon Coast. With the exception of the two headlands and Tillamook Rock, all of the Refuge's rocks, reefs, and islands are included in the Oregon Islands Wilderness. Most of Oregon's estimated 1.2 million nesting seabirds are found on this Refuge. A large percentage of Oregon's seal and sea lion (pinnipeds) populations use the Refuge for haulout and/or pupping, including more than 5,000 harbor seals, 4,000 California sea lions, 4,000 threatened Steller sea lions, and 100 northern elephant seals.

The Three Arch Rocks Refuge is located a half-mile west of the town of Oceanside in Tillamook County, Oregon. The Refuge is comprised of 9 rocks and islands with a total land area of 15 acres, and supports one of the largest seabird breeding colonies—mainly tufted puffins and common murre—in Oregon. It is also the only breeding site for the threatened Steller sea lion on the north coast of Oregon. The Refuge is a designated wilderness area known as Three Arch Rocks Wilderness.

Draft Alternatives We Are Considering

We identified and evaluated two alternatives for managing the Refuges for the next 15 years. Alternative 1 is the No Action Alternative, and Alternative 2 is the Preferred Alternative, which is a collaborative approach to protection and management of refuge lands. Draft compatibility determinations for public uses are available for review with the Draft CCP/WSP/EA. Brief descriptions of the alternatives follow.

Alternative 1

This alternative assumes no change from current Refuge management programs. We would continue to protect and maintain habitat for priority species, including seabirds and pinnipeds. Efforts to prevent wildlife disturbance on rocks, reefs, and islands would continue, including prohibiting public access, posting educational and regulatory signs, and deploying buoys annually, to delineate the seasonal 500-foot watercraft exclusion buffer zone around Three Arch Rocks Refuge. Habitat management would consist primarily of monitoring and treating invasive plant infestations as funding allows. We would continue to conduct regularly scheduled aerial, boat, and land surveys of nesting seabirds. Existing public uses, including wildlife observation and photography, would continue at current levels. We would continue to partner with Oregon Parks and Recreation Department (OPRD) to provide quality wildlife viewing opportunities at Cape Meares Refuge and other parks adjacent to rocks, reefs, and islands within Oregon Islands and Three Arch Rocks Refuges.

Alternative 2

Under the Preferred Alternative, a collaborative approach to protection and management of the Refuges' rock, reef, island, and old-growth habitats would be emphasized over the current staff-directed approach. We would develop a Geographic Information System (GIS) based inventory and monitoring program for pinnipeds, seabirds and other migratory birds, terrestrial mammals, reptiles, amphibians, invertebrates, and plant species, and invasive species would be monitored and aggressively treated.

Partners would be actively sought to collaborate on research, design, and implementation of studies that would directly contribute toward maintaining or restoring the biological integrity, diversity, and environmental health of the Refuges. We would establish formal agreements with coastal resource management agencies to cooperate on strategies to protect wildlife.

New partnerships would also be established with public and private entities to develop interpretive panels and new wildlife viewing opportunities. The Refuges' Volunteer Interpreter Program would be expanded to include priority sites with heavy visitation and prime wildlife viewing opportunities. We would also develop a quality environmental education program focusing on the Refuges' wildlife.

Public Availability of Documents

We encourage you to stay involved in the CCP planning process by reviewing and commenting on the proposals we have developed in the Draft CCP/WSP/EA.

Copies of the Draft CCP/WSP/EA on compact disk are available upon request from the Refuge Complex at phone number (541) 867-4550. Copies may be reviewed at the Oregon Coast National Wildlife Refuge Complex, 2127 SE Marine Science Drive, Newport, OR. The Draft CCP/WSP/EA is also available for viewing and downloading on the Internet at http://www.fws.gov/oregoncoast/. Printed copies will be available for review at the following libraries.

• Chetco Community Public Library, 405 Alder St., Brookings, OR 97415,

• Bandon Public Library, 1204 11th St. SW., Bandon, OR 97411,

• Newport Public Library, 35 NW Nye St., Newport, OR 97365,

• Driftwood Public Library, 801 SW Hwy 101 #201, Lincoln City, OR 97367,

• Tillamook County Library, 1716 3rd St., Tillamook, OR 97141, and

• Seaside Public Library, 1131 Broadway, Seaside, OR 97138.

Public Comments

Public comments are requested, considered, and incorporated throughout the planning process. Comments on the Draft CCP/WSP/EA will be analyzed by the Service and addressed in final planning documents. All comments received from individuals become part of the official public record and may be released. Requests for such comments will be handled in accordance with the Freedom of Information Act (5 U.S.C. 552), NEPA regulations, and Service and Department of the Interior policies and procedures.

Dated: May 11, 2009.
David J. Wesley,
Regional Director, Region 1, Portland, Oregon.

[FR Doc. E9-13564 Filed 6-12-09; 8:45 am]

BILLING CODE 4310-55-P